DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: American Management and Business Internship Training (AMBIT) Program: Applications.

Agency Form Number: N/A.

OMB Number: 0625-0224.

Type of Request: Revision-Regular Submission.

Burden: 465.

Number of Respondents: 265.

Avg. Hours Per Response: 1-3 hours.

Needs and Uses: The U.S. Department of Commerce's International Trade Administration (ITA), in collaboration with the International Fund for Ireland (IFI), has established the American Management & Business Internship Training (AMBIT) program. AMBIT provides one-week to six-month training programs for managers and technical experts from Northern Ireland and the Border Counties of Ireland, thereby improving their skills while enhancing U.S. commercial opportunities in the region. AMBIT was launched in 1995 to demonstrate America's interest in supporting the peace process by encouraging economic development in Northern Ireland and the Six Border Counties of Ireland.

The U.S. Department of Commerce works in partnership with the IFI, an organization established in 1986 by the British and Irish Governments to promote economic/social progress and to encourage contact, dialog, and reconciliation in the region. The United States, the European Union, Canada, Australia, and New Zealand contribute to the IFI budget.

Affected Public: Business or other non-profit, individuals (non-U.S. citizens).

Frequency: On Occasion.

Respondent's Obligation: Required to obtain or retain a benefit, voluntary.

OMB Desk Officer: David Rostker, (202) 395-3897.

Copies of the above information collection proposal can be obtained by calling or writing Madeleine Clayton, Departmental Paperwork Clearance Officer, (202) 482-3129, Department of Commerce, Room 6086, 14th and Constitution, NW., Washington, DC 20230 or via internet at MClayton@doc.gov.

Written comments and recommendations for the proposed information collection should be sent to David Rostker, OMB Desk Officer, Room 10202, New Executive Office Building, Washington, DC 20503 within 30 days of the publication of this notice in the Federal Register.

Dated: August 30, 2001.
Madeleine Clayton,
Departmental Paperwork Clearance Officer, Office of the Chief Information Officer.

[FR Doc. 01-22208 Filed 9-4-01; 8:45 am]

BILLING CODE 3510-HE-P